DEPARTMENT OF LABOR

Employment and Training Administration

Investigations Regarding Certifications of Eligibility To Apply for Worker Adjustment Assistance

Petitions have been filed with the Secretary of Labor under Section 221(a) of the Trade Act of 1974 (“the Act”) and are identified in the Appendix to this notice. Upon receipt of these petitions, the Director of the Division of Trade Adjustment Assistance, Employment and Training Administration, has instituted investigations pursuant to Section 221(a) of the Act.

The purpose of each of the investigations is to determine whether the workers are eligible to apply for adjustment assistance under Title II, Chapter 2, of the Act. The investigations will further relate, as appropriate, to the determination of the date on which total or partial separations began or threatened to begin and the subdivision of the firm involved.

The petitioners or any other persons showing a substantial interest in the subject matter of the investigations may request a public hearing, provided such request is filed in writing with the Director, Division of Trade Adjustment Assistance, at the address shown below, not later than October 18, 2002.

Interested persons are invited to submit written comments regarding the subject matter of the investigations to the Director, Division of Trade Adjustment Assistance, at the address shown below, not later than October 18, 2002.

The petitions filed in this case are available for inspection at the Office of the Director, Division of Trade Adjustment Assistance, Employment and Training Administration, U.S. Department of Labor, Room C-5311, 200 Constitution Avenue, NW., Washington, DC 20210.

Signed at Washington, DC this 3rd day of September, 2002.
Edward A. Tomchick,
Director, Division of Trade Adjustment Assistance.

Appendix
[Petitions Instituted On 09/03/2002]
TA-W | Subject firm (petitioners) | Location | Date of petition | Product(s)
42,036 | EDS Corp (Wrks) | Fairborn, OH | 08/19/2002 | Information technology.
42,037 | Black Diamond Equipment (Comp) | Salt Lake City, UT | 08/15/2002 | Rock climbing equipment.
42,038 | Corning, Inc. (Comp) | Concord, NC | 08/12/2002 | Single mode optical fiber, canes, blanks.
42,039 | Wisconsin Pattern Co (Wrks) | Racine, WI | 08/12/2002 | Core boxes.
42,040 | Lockheed Martin (Wrks) | Tulsa, OK | 08/19/2002 | Letter sorting—mail sorter.
42,041 | Mo-Tech Corp (Wrks) | Oakdale, MN | 08/20/2002 | Injection molds.
42,042 | Plastic Products Co., Inc (Wrks) | Moline, IL | 08/20/2002 | Microwave ovens.
42,043 | Eureka Co. (The) (Wrks) | El Paso, TX | 08/02/2002 | Upright and canister vacuum cleaners.
42,044 | Siemens VDO Automotive (UAW) | Lima, OH | 08/21/2002 | Manifolds and induction modules.
42,045 | Regal Manufacturing, Inc. (UNITE) | New York, NY | 08/21/2002 | Women's apparel.
42,046 | B-W Specialty Mfg. (Wrks) | Seattle, WA | 08/12/2002 | Wood cores.
42,047 | Holloway Sportswear (Comp) | Olla, LA | 08/15/2002 | Cutting athletic wear patterns.
42,048 | Fashion Tanning Co, Inc (UNITE) | Glovesville, NY | 08/12/2002 | Embossed and colored leather.
42,049 | Boeing Co (The) (Wrks) | Tulsa, OK | 07/17/2002 | Commercial plane components.
42,050 | CommScope, Inc. (Comp) | Catawba, NC | 08/19/2002 | Coaxial and fiber optic cable products.
42,051 | Citation Corp (Wrks) | Milwaukee, WI | 08/15/2002 | Steel forged parts.
42,052 | Forem USA (Wrks) | Sparks, NV | 08/15/2002 | Filters, duplexes, amplifiers, etc.
42,053 | Arnold Tool and Die (Comp) | Council Bluffs, IA | 08/16/2002 | Cast iron plates and shafts.
42,054 | Treesource (Wrks) | Tacoma, WA | 08/21/2002 | Lumber.
42,055 | Plymouth, Inc. (Wrks) | Radford, VA | 07/18/2002 | School and paper products.
42,056 | Kadant Black Clawson (Wrks) | Mason, OH | 07/30/2002 | Paper recycling machinery, paper screens.
42,057 | International Ceramic (Comp) | Demotte, IN | 08/02/2002 | Brick refractory.
42,058 | MDN, Inc T/A Crosswire (Comp) | Bellmawr, NJ | 08/23/2002 | Wire cloth fabricated parts.
42,059 | Isaac Hazan and Co. (Wrks) | Secaucus, NJ | 08/22/2002 | Jackets, pants, skirts, blouses.
42,060 | United Sweater Mills Corp (Comp) | Jersey City, NJ | 08/20/2002 | Ladies sweaters.
42,061 | Metropolitan Steel Ind. (Wrks) | Sinking Springs, PA | 08/20/2002 | Beams, columns, girders and trusses.
42,062 | Sam Fashion Inc (Wrks) | North Bergen, NJ | 08/15/2002 | Ladies coats.
42,063 | Acco Chain and Lifting (USWA) | York, PA | 08/15/2002 | Chains.
42,064 | SMTC Manufacturing Corp (Comp) | Austin, TX | 08/16/2002 | Computer printed circuit boards.
42,065 | Cray, Inc. (Wrks) | Chippewa Falls, WI | 08/06/2002 | Sell computer products.
42,066 | Leatherworks, LLC (UAW) | Detroit, MI | 08/19/2002 | Leather seat covers.
42,067 | Huntsman Petrochemicals (Wrks) | Odessa, TX | 02/13/2002 | Polymer plastics and ethylene liquid.
42,068 | Motorola, SPS (Wrks) | Chandler, AZ | 08/16/2002 | Semiconductors, IC's microprocessors.

[FR Doc. 02-25665 Filed 10-8-02; 8:45 am]

BILLING CODE 4510-30-M